DEPARTMENT OF TRANSPORTATION

Federal Aviation Administration

14 CFR Part 39

[Docket No. FAA-2009-0995; Directorate Identifier 2009-NM-123-AD; Amendment 39-16336; AD 2010-13-05]

Airworthiness Directives; Bombardier, Inc. Model CL-600-2C10 (Regional Jet Series 700 & 701) Airplanes, Model CL-600-2D15 (Regional Jet Series 705) Airplanes, and Model CL-600-2D24 (Regional Jet Series 900) Airplanes

Correction

In rule document 2010-14979 beginning on page 35613 in the issue of Wednesday, June 23, 2010, make the following correction:

On page 35613, in the second column under the “DATES:” heading, in the first line, “June 23, 2010” should read “July 28, 2010”.

[FR Doc. C1-2010-14979 Filed 6-30-10; 8:45 am]

BILLING CODE 1505-01-D